DEPARTMENT OF ENERGY

Federal Energy Regulatory Commission

[Docket No. CP02-142-000]

Columbia Gas Transmission Corporation; Notice of Application

April 11, 2002.

Take notice that on April 5, 2002, Columbia Gas Transmission Corporation (Columbia), 12801 Fair Lakes Parkway, Fairfax, Virginia 22030-0146, filed in Docket No. CP02-142-000, an application, pursuant to sections 7(b) and (c) of the Natural Gas Act (NGA) and part 157 of the Commission's Regulations for abandonment authorization and a certificate of public convenience and necessity authorizing the construction and operation of certain natural gas transmission facilities in Pennsylvania to provide firm transportation service (FTS) under part 284 of the Commission's Regulations for Rock Springs Generation, LLC (Rock Springs) and CED Rock Springs, Inc. (CEDRS) (together, “Customer”), all as more fully set forth in the application which is on file with the Commission and open to public inspection.

Columbia proposes to abandon 8.6 miles of 14-inch pipeline and replace it with 8.6 miles of 24-inch pipeline in Chester County, Pennsylvania, between its Eagle and Downingtown Compressor Stations. It is stated that Columbia will use this pipeline to transport up to 270,000 Dekatherms (dt) per day of natural gas to the Customer's power plant to be located in Rock Springs, Cecil County, Maryland, in order to serve the fuel requirements of the power plant and to serve future electric demand requirements. Columbia states that it has signed contracts with Rock Springs and CEDRS to transport gas for a term of 20 years, delivering 135,000 dt of gas per day to each. It is asserted that the replacement of the line will enhance reliability and flexibility for Columbia's existing customers through the creation of additional capacity during off-peak periods. Columbia will make deliveries to the Customer using the existing Rock Springs Meter Station which was constructed by Columbia under the automatic provisions of its blanket certificate and paid for by the Customer.

Columbia estimates the cost of the project at $15,059,400 and requests rolled-in rate treatment for the cost, asserting that the project satisfies the requirements of the Commission's Pricing Policy Statement for new construction. Columbia requests that a certificate be issued by October 1, 2002, in order to begin service by April 1, 2003.

Any questions regarding this application should be directed to Fredric J. George, Certificates, at (304)357-2359, Columbia Gas Transmission Company, P.O. Box 1273, Charleston, West Virginia 25325-1273.

There are two ways to become involved in the Commission's review of this project. First, any person wishing to obtain legal status by becoming a party to the proceedings for this project should, on or before May 2, 2002, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the Commission's website at ­ http://www.ferc.fed.us/efi/doorbell.htm.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Linwood A. Watson, Jr.,
Deputy Secretary.

[FR Doc. 02-9283 Filed 4-16-02; 8:45 am]

BILLING CODE 6717-01-P